DEPARTMENT OF COMMERCE

National Oceanic and Atmospheric Administration

RIN: 0648-XP31

New England Fishery Management Council; Public Meeting

AGENCY: National Marine Fisheries Service (NMFS), National Oceanic and Atmospheric Administration (NOAA), Commerce.

ACTION: Notice; public meeting.

SUMMARY: The New England Fishery Management Council's (Council) Herring Oversight Committee will meet to consider actions affecting New England fisheries in the exclusive economic zone (EEZ).

DATES: The two-day meeting will be held on Thursday, June 4, 2009 at 9:30 a.m. and on Friday, June 5, 2009 at 9 a.m.

ADDRESSES: The meeting will be held at the Clarion Hotel, 1230 Congress Street, Portland, ME; telephone: (207) 774-5611; fax: (207) 871-0510.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

Thursday, June 4, 2009 beginning at 9:30 a.m. and Friday, June 5, 2009 beginning at 9 a.m.

1. Continue development of management alternatives to be considered in Amendment 4 to the Atlantic Herring Fishery Management Plan (FMP) development of alternatives may include discussion related to measures to establish annual catch limits (ACLs) and accountability measures (AMs); a catch monitoring program for the herring fishery; measures to address river herring bycatch; measures to establish criteria for midwater trawl access to groundfish closed areas; and measures to address interactions with the mackerel fishery

2. Review/discuss recommendations from Scientific and Statistical Committee (SSC), Enforcement Committee, Herring Advisory Panel, and Herring Plan Development Team (PDT)

3. Finalize alternatives for establishing ACLs and AMs

4. Continue discussion of management measures related to catch monitoring, including but not limited to: specific monitoring and reporting requirements for herring vessels and processors, observer coverage and at-sea monitoring, shoreside/dockside monitoring and sampling, vessel monitoring system (VMS) requirements, as well as other measures related to catch monitoring

5. Review information related to Northeast Fishery Science Center study fleet program and discuss applicability of study fleet technology to herring catch monitoring alternatives in Amendment 4

6. Discuss/develop options for industry-funded catch monitoring programs (dockside and/or at-sea)

7. Review draft dockside sampling program and develop Committee recommendations

8. Review timeline for Amendment 4 and develop Committee recommendations for Council consideration in June 2009 regarding alternatives for inclusion in the Amendment 4 Draft EIS

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: May 13, 2009.
Tracey L. Thompson,
Acting Director, Office of Sustainable Fisheries, National Marine Fisheries Service.

[FR Doc. E9-11475 Filed 5-15-09; 8:45 am]

BILLING CODE 3510-22-S